DEPARTMENT OF DEFENSE

Department of the Air Force

Notice Is Given as a Reminder of the United Launch Alliance (ULA) Consent Order, Department of Defense (DoD) Compliance Officer and Consent Order Expiration Date

AGENCY: Department of Defense (DoD), Principal DoD Space Advisor.

ACTION: Publicize Consent Order and the DoD Compliance Officer; Inform Public of Consent Order Expiration; and Provide Points of Contact for Information and/or Comment Submittal.

SUMMARY: THIS IS NOT A NOTICE OF SOLICITATION ISSUANCE. The Director, Principal DoD Space Advisor Staff, as the Compliance Officer under the Federal Trade Commission (FTC) Decision and Order (hereinafter referred to as the “Consent Order”), in the Matter of Lockheed Martin Corporation (LMC), the Boeing Company (Boeing), and United Launch Alliance, L.L.C. (ULA) (hereinafter referred to as the “Respondents”), Docket No. C-4188, dated May 1, 2007, is posting this notice to publicize the Consent Order, notify the Public of the DoD Compliance Officer, notify the Public that the Consent Order expires in 2017, and to provide points of contact for further information or for comment submittal.

DATES: Effective May 1, 2006.

FOR FURTHER INFORMATION CONTACT: For further information and inquiries, or to request a meeting with the DoD Compliance Officer or his Government Compliance Team, interested parties should contact either Mrs. Sarah Beth Cliatt (Compliance Division Chief), Tel: 571-241-2452; or Colonel Marc Berkstresser (Deputy Compliance Division Chief), Tel: 703-693-3634. Please note that Government compliance oversight activities will conclude following Consent Order expiration on May 1, 2017. The Compliance Officer is currently working with his Government team and the Respondents to accomplish an orderly close out of Consent Order compliance activities.

SUPPLEMENTARY INFORMATION: The Consent Order: The Consent Order requires that with regard to covered Government programs, (1) ULA afford all space vehicle manufacturers non-discriminatory treatment for launch services that ULA may provide, and that (2) LMC and Boeing, as space vehicle manufacturers, consider all qualified launch service providers on a non-discriminatory basis. Covered programs are Government programs which are delivered in orbit and utilize medium-to-heavy launch services. The Consent Order also requires firewalls to prevent information from a space vehicle provider being shared by ULA with its Boeing or LMC parent company. Similarly, Boeing and LMC must have firewalls to ensure that other launch service information is not shared with ULA. The Consent Order also requires that the Department of Defense appoint a Compliance Officer to oversee compliance with the Consent Order by all three Respondents. The Consent Order remains in full effect through 30 April 2017 and expires on 1 May 2017. The complete text of the ULA Consent Order and supplementary information is located on the following FTC Web site: http://www.ftc.gov/enforcement/cases-proceedings/0510165/lockheed-martin-corporation-boeing-company-united-launch.

DoD Compliance Officer: The DOD Compliance Officer is the Director, Principal DoD Space Advisor Staff. The duties of this position are conducted by Mr. Winston A. Beauchamp.

Anh Trinh,
Air Force Federal Register Liaison Officer.

[FR Doc. 2016-30422 Filed 12-16-16; 8:45 am]

BILLING CODE 5001-10-P